DEPARTMENT OF HEALTH AND HUMAN SERVICES

National Committee on Vital and Health Statistics: Meeting

Pursuant to the Federal Advisory Committee Act, the Department of Health and Human Services (HHS) announces the following advisory committee meeting.

Name: National Committee on Vital and Health Statistics (NCVHS), Full Committee Meeting.

Time and Date: February 9, 2011, 9 a.m.-2:30 p.m. February 10, 2011, 10 a.m.-3 p.m.

Place: St. Regis Hotel, 923 16th Street, NW., Washington, DC 20006, (202) 638-2626.

Status: Open.

Purpose: At this meeting the Committee will hear presentations and hold discussions on several health data policy topics. On the morning of the first day the Committee will hear updates from the Department, the Center for Medicare and Medicaid Services, and the Office of the National Coordinator. A discussion of a letter to the HHS Secretary regarding quality measures and a letter to the Secretary regarding Electronic Funds Transfer (EFT) operating rules and remittance will also take place. In the afternoon there will be a discussion of the Community Health Data Initiative.

On the morning of the second day there will be a review of the final letters regarding quality measures, and EFT operating rules and remittance. There will also be a discussion regarding bridging Systematized Nomenclature of Medicine—Clinical Terms (SNOWMED CT) and international classifications and the IOM Report Digital Infrastructure for the Learning Health System: The Foundation for Continuous Improvement in Health and Health Care. Subcommittees will also present their reports.

The times shown above are for the full Committee meeting. Subcommittee breakout sessions can be scheduled for late in the afternoon of the first day and second day and in the morning prior to the full Committee meeting on the second day. Agendas for these breakout sessions will be posted on the NCVHS website (URL below) when available.

Contact Person for More Information: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http://www.ncvhs.hhs.gov/, where further information including an agenda will be posted when available.

Should you require reasonable accommodation, please contact the CDC Office of Equal Employment Opportunity on (301) 458-4EEO (4336) as soon as possible.

Dated: January 20, 2011.
James Scanlon,
Deputy Assistant Secretary for Planning and Evaluation.

[FR Doc. 2011-1654 Filed 1-25-11; 8:45 am]

BILLING CODE 4151-05-P